DEPARTMENT OF JUSTICE

[OMB Number 1117-0042]

Agency Information Collection Activities; Proposed eCollection eComments Requested; Extension of a Currently Approved Collection; National Clandestine Laboratory Seizure Report

AGENCY: Drug Enforcement Administration, Department of Justice.

ACTION: 60-day notice.

SUMMARY: The Department of Justice (DOJ), Drug Enforcement Administration, will be submitting the following information collection request to the Office of Management and Budget (OMB) for review and approval in accordance with the Paperwork Reduction Act of 1995.

DATES: Comments are encouraged and will be accepted for 60 days until November 14, 2016.

FOR FURTHER INFORMATION CONTACT: If you have additional comments especially on the estimated public burden or associated response time, suggestions, or need a copy of the proposed information collection instrument with instructions or additional information, please contact Catherine J. Cmiel-Acevido, Lead IT Specialist, or Jesus Oswaldo “Waldo” Contreras, IT Specialist, El Paso Intelligence Center, Drug Enforcement Administration, 11339 SSG Sims Blvd., El Paso, TX 79918.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1 Type of Information Collection: Extension of a currently approved collection.

2 The Title of the Form/Collection: National Clandestine Laboratory Seizure Report.

3 The agency form number, if any, and the applicable component of the Department sponsoring the collection: EPIC-143.

4 Affected public who will be asked or required to respond, as well as a brief abstract: State, Local or Tribal government law enforcement agencies. Records reported in the National Seizure System include clandestine laboratory seizure information managed by the El Paso Intelligence Center, Drug Enforcement Administration, and available to other law enforcement agencies in the discharge of their law enforcement duties and responsibilities.

5 An estimate of the total number of respondents and the amount of time estimated for an average respondent to respond: It is estimated that approximately 7930 respondents will complete the survey within approximately one hour.

6 An estimate of the total public burden (in hours) associated with the collection: The estimated public burden associated with this collection is 7930 hours. It is estimated that respondents will take one hour to complete the survey. In order to calculate the public burden for the survey, EPIC multiplied one hour by 7930 which equals 7930 total annual burden hours.

If additional information is required contact: Jerri Murray, Department Clearance Officer, United States Department of Justice, Justice Management Division, Policy and Planning Staff, Two Constitution Square, 145 N Street NE., 3E.405B, Washington, DC 20530.

Dated: September 8, 2016.
Jerri Murray,
Department Clearance Officer for PRA, U.S. Department of Justice.

[FR Doc. 2016-22012 Filed 9-13-16; 8:45 am]

BILLING CODE 4410-09-P